DEPARTMENT OF ENERGY

Federal Energy Regulatory Commission

[Docket No. CP06-44-000]

Duke Energy Field Services, LP; Notice of Application

January 5, 2006.

Take notice that on December 30, 2005, Duke Energy Field Services, LP (Duke Field Services) submitted an Application for a Limited Jurisdiction, Limited-Term Certificate of Public Convenience and Necessity pursuant to section 7(c) of the Natural Gas Act. This filing is available for review at the Commission or may be viewed on the Commission's Web site at http://www.ferc.gov, using the eLibrary link. Enter the docket number excluding the last three digits in the docket number filed to access the document. Questions about this application should be directed to Katie Rice, Director, Regulatory Affairs, Duke Energy Field Services, LP, 370 17th Street, Suite 2500, Denver, CO 80202, Phone: (303) 605-2166.

Duke Field Services states that the proposed limited jurisdiction, limited term certificate would permit Duke Field Services to transport certain of its raw gas supplies from Northern Natural Gas Company's (Northern Natural) Beaver Wet System in Beaver County, Oklahoma, to the National Helium Plant in Seward County, Kansas, but that Duke Field Services' related gas gathering facilities and operations in Oklahoma and Kansas will not become subject to the Commission's jurisdiction. The pipeline facilities of Panhandle Eastern Pipeline Company and Northern Natural would also be used in this transaction. Duke Field Services says that there would be no jurisdictional rate impact of its proposal because it will be providing service for itself and thus no rate authorization is requested nor required, according to Duke Field Services.

Duke Field Services is seeking this limited jurisdiction, limited term certificate for a term of the earlier of one year, or 60 days after the Commission issues a final order in two pending dockets involving Northern Natural and Duke Field Services, Docket Nos. CP06-39-000 and CP06-40-000, respectively. Those two dockets involve the sale of Northern Natural's Beaver Wet System from Northern Natural to Duke Field Services. Public notices of those two dockets were previously issued on December 22, 2005.

Any person desiring to intervene or to protest this filing should file with the Federal Energy Regulatory Commission, 888 First Street, NE., Washington, DC 20426, in accordance with Rule 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the eFiling link. The Commission strongly encourages electronic filings.

Comment Date: January 13, 2006.

Magalie R. Salas,
Secretary.

[FR Doc. E6-274 Filed 1-12-06; 8:45 am]

BILLING CODE 6717-01-P